DEPARTMENT OF THE INTERIOR

National Park Service

[NPS-WASO-NAGPRA-NPS0034232; PPWOCRADN0-PCU00RP14.R50000]

Notice of Inventory Completion: City of Saugatuck, Saugatuck, MI

AGENCY: National Park Service, Interior.

ACTION: Notice.

SUMMARY: The City of Saugatuck, MI, has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the City of Saugatuck, MI. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the City of Saugatuck, MI, at the address in this notice by August 22, 2022.

FOR FURTHER INFORMATION CONTACT: Ryan Heise, City Manager, Saugatuck City Hall, 102 Butler Street, P.O. Box 86, Saugatuck, MI 49453, telephone (269) 857-2603, email Ryan@saugatuckcity.com.

SUPPLEMENTARY INFORMATION: Notice is here given in accordance with the Native American Graves Protection and Repatriation Act (NAGPRA), 25 U.S.C. 3003, of the completion of an inventory of human remains under the control of the City of Saugatuck, Saugatuck, MI. The human remains were removed from the Saugatuck site (20AE1) in Allegan County, MI.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by City of Saugatuck, MI, professional staff in consultation with representatives of the Citizen Potawatomi Nation, Oklahoma; Forest County Potawatomi Community, Wisconsin; Grand Traverse Band of Ottawa and Chippewa Indians, Michigan; Hannahville Indian Community, Michigan; Little River Band of Ottawa Indians, Michigan; Little Traverse Bay Bands of Odawa Indians, Michigan; Match-e-be-nash-she-wish Band of Pottawatomi Indians of Michigan; Nottawaseppi Huron Band of the Potawatomi, Michigan (previously listed as Huron Potawatomi, Inc.); Ottawa Tribe of Oklahoma; Pokagon Band of Potawatomi Indians, Michigan and Indiana; and the Prairie Band Potawatomi Nation (previously listed as Prairie Band of Potawatomi Nation, Kansas) (hereafter referred to as “The Tribes”).

History and Description of the Remains

On an unknown date after 1929, human remains representing, at minimum, three individuals were removed from the Saugatuck site (20AE1) in Allegan County, MI. Workers encountered the burials while constructing the foundation for Saugatuck City Hall. Sometime prior to 1964, the human remains were transferred to the University of Michigan Museum of Anthropological Archaeology (UMMAA) to be reposited. In 1935, George Quimby, an undergraduate student of Archeology studying at UMMAA, recorded in an unpublished report that several post-contact period objects were found in association with the burials. The objects were never transferred to the UMMAA and their current whereabouts are unknown. The human remains are of one child, 2-4 years old, indeterminate sex; one child, approximately 5 years old, indeterminate sex; and one adolescent, under 16 years old, indeterminate sex. No known individuals were identified. No associated funerary objects are present.

The human remains have been determined to be Native American based on dental traits, burial treatment, and diagnostic artifacts. A relationship of shared group identity can be reasonably traced between the Native American human remains from this site and the Potawatomi and Ottawa based on multiple lines of evidence. The associated funerary objects noted from the site were typical of the types of goods traded in the region in A.D. 1700-1800. Quimby suggested that, based on a gorget with the American eagle emblem noted at the site, the burials slightly postdate the British monopoly on trade that lasted from 1780 to 1815. Additionally, records of the Saugatuck Historical Society and the UMMAA note that the Potawatomi and Ottawa were the predominant Indian Tribes in the area at the time these three individuals were buried, and that they used the area of the Saugatuck site as a cemetery until the 1860s.

Determinations Made by the City of Saugatuck, MI

Officials of the City of Saugatuck, MI, have determined that:

• Pursuant to 25 U.S.C. 3001(9), the human remains described in this notice represent the physical remains of three individuals of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Ryan Heise, City Manager, Saugatuck City Hall, 102 Butler Street, P.O. Box 86, Saugatuck, MI 49453, telephone (269) 857-2603, email Ryan@saugatuckcity.com, by August 22, 2022. After that date, if no additional requestors have come forward, transfer of control of the human remains to The Tribes may proceed.

The City of Saugatuck, MI, is responsible for notifying The Tribes that this notice has been published.

Dated: July 13, 2022.
Melanie O'Brien,
Manager, National NAGPRA Program.

[FR Doc. 2022-15547 Filed 7-20-22; 8:45 am]

BILLING CODE 4312-52-P